DEPARTMENT OF LABOR

Employment and Training Administration

[TA-W-38,237]

STAEG Hamatech, Inc., Saco, ME; Notice of Termination of Investigation

Pursuant to section 221 of the Trade Act of 1974, an investigation was initiated on October 23, 2000 in response to a worker petition which was filed by a company official on October 17, 2000 on behalf of workers at STAEG Hamatech, Inc., Saco, Maine.

The petitioner has requested that the petition be withdrawn. Consequently, further investigation in this case would serve no purpose, and the investigation has been terminated.

Signed in Washington, D.C., this 14th day of December, 2000.
Linda G. Poole,
Certifying Officer, Division of Trade Adjustment Assistance.

[FR Doc. 00-33062 Filed 12-27-00; 8:45 am]

BILLING CODE 4510-30-M